DEPARTMENT OF JUSTICE

[[OMB Number 1190-0021]

Agency Information Collection Activities; Proposed eCollection eComments Requested; Revision of a Previously Approved Collection; Generic Clearance for Community Relations Service Program Impact Evaluation

AGENCY: Community Relations Service, Department of Justice.

ACTION: 60-Day notice.

SUMMARY: The Community Relations Service, Department of Justice (DOJ), will be submitting the following information collection request to the Office of Management and Budget (OMB) for review and approval in accordance with the Paperwork Reduction Act of 1995.

DATES: Comments are encouraged and will be accepted for 60 days until February 20, 2024.

FOR FURTHER INFORMATION CONTACT: If you have additional comments especially on the estimated public burden or associated response time, suggestions, or need a copy of the proposed information collection instrument with instructions or additional information, please contact Jordan Mathews, Community Relations Service, 145 N St. NE, Washington, DC 20002, 771-208-9190 or Jordan.M.Mathews@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Over the next three years, CRS and its evaluation contractor, Mathematica, anticipate collecting program impact evaluation data for assessing ongoing programs across several areas within community outreach. The purpose of these collections is to gather feedback from participants who attended CRS programs and to use that information to assess the impact and outcomes of the programs. The work may entail redesigning and/or modifying existing programs based upon received feedback. CRS envisions using surveys, interviews, and other electronic data collection instruments. In this revision, CRS is requesting an increased level of burden from the previously approved collection to reflect including a larger number of programs in the assessment and collecting information at multiple time points for an individual program to assess change over time.

Overview of This Information Collection

1. Type of Information Collection: Revision of a previously approved collection.

2. The Title of the Form/Collection: Generic Clearance for Community Relations Service Program Impact Evaluation.

3. The agency form number, if any, and the applicable component of the Department sponsoring the collection: Form numbers not available for generic clearance. The applicable component within the Department of Justice is the Community Relations Service.

4. Affected public who will be asked or required to respond, as well as the obligation to respond: Affected Public: Participants of CRS programs in relevant jurisdictional fields; individuals; facilitators; state and local law enforcement, government officials, faith leaders, and community leaders; students; school administrators; and representatives of advocacy organizations. The obligation to respond is voluntary.

5. An estimate of the total number of respondents and the amount of time estimated for an average respondent to respond: We estimate that up to 1,227 individuals will be involved in the data collection annually over the three-year clearance period. The average time per response for surveys is 15 minutes, while the average time per response for interviews is 60 minutes.

6. An estimate of the total annual burden (in hours) associated with the collection: The total annual burden hours for this collection is 515 hours.

7. An estimate of the total annual cost burden associated with the collection, if applicable: $28,100.

Total Burden Hours
Activity | Number of respondents | Frequency (annually) | Total annual responses | Time per response minutes | Total annual burden (hours)
L3 Evaluation surveys | 950 | 1 | 950 | 15 | 238
L3 Evaluation interviews | 277 | 1 | 277 | 60 | 277
Unduplicated totals | 1,227 |  | 1,227 |  | 515

If additional information is required contact: Darwin Arceo, Department Clearance Officer, United States Department of Justice, Justice Management Division, Policy and Planning Staff, Two Constitution Square, 145 N Street NE, 4W-218, Washington, DC.

Dated: December 15, 2023.
Darwin Arceo,
Department Clearance Officer for PRA, U.S. Department of Justice.

[FR Doc. 2023-27971 Filed 12-19-23; 8:45 am]

BILLING CODE 4410-17-P